DEPARTMENT OF ENERGY

Federal Energy Regulatory Commission

Combined Notice of Filings #1

Take notice that the Commission received the following electric rate filings:

Docket Numbers: ER12-1308-002.

Applicants: Palouse Wind, LLC.

Description: Notice of Change in Fact of Palouse Wind, LLC.

Filed Date: 1/2/13.

Accession Number: 20130102-5236.

Comments Due: 5 p.m. ET 1/23/13.

Docket Numbers: ER12-2682-000.

Applicants: Midwest Independent Transmission System Operator, Inc.

Description: The Midwest Independent Transmission System Operator, Inc. submits Amendment to September 24, 2012 Pro Forma Tariff Sheets Including Proposed Module B-1 to the MISO Tariff.

Filed Date: 12/31/12.

Accession Number: 20121231-5131.

Comments Due: 5 p.m. ET 1/22/13.

Docket Numbers: ER13-395-000.

Applicants: Safe Harbor Water Power Corporation.

Description: Safe Harbor Water Power Corporation submits Amendment to the November 16, 2012 Filing Letter.

Filed Date: 12/26/12.

Accession Number: 20121226-5061.

Comments Due: 5 p.m. ET 1/16/13.

Docket Numbers: ER13-692-000.

Applicants: Midwest Independent Transmission System Operator, Inc.

Description: 2013-01-02_OASIS Filing to be effective 3/4/2013.

Filed Date: 1/2/13.

Accession Number: 20130102-5158.

Comments Due: 5 p.m. ET 1/23/13.

Docket Numbers: ER13-693-000.

Applicants: WSPP Inc.

Description: Amendments to the WSPP Agreement to be effective 3/3/2013.

Filed Date: 1/2/13.

Accession Number: 20130102-5171.

Comments Due: 5 p.m. ET 1/23/13.

Docket Numbers: ER13-694-000.

Applicants: PJM Interconnection, L.L.C.

Description: PJM Interconnection, L.L.C. submits Notice of Cancellation of service agreement No. 512.

Filed Date: 1/2/13.

Accession Number: 20130102-5200.

Comments Due: 5 p.m. ET 1/23/13.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2013.
Nathaniel J. Davis, Sr.,
Deputy Secretary.

[FR Doc. 2013-00402 Filed 1-10-13; 8:45 am]

BILLING CODE 6717-01-P